DEPARTMENT OF COMMERCE

National Oceanic and Atmospheric Administration

RIN 0648-XA626

Marine Mammals; File No. 16160

AGENCY: National Marine Fisheries Service (NMFS), National Oceanic and Atmospheric Administration (NOAA), Commerce.

ACTION: Notice; receipt of application for permit amendment.

SUMMARY: Notice is hereby given that The Whale Museum (Responsible Party: Jenny Atkinson), P.O. Box 945, Friday Harbor, WA 98250 has requested a change in Principal Investigator to their pending permit application.

DATES: Written, telefaxed, or email comments must be received on or before April 2, 2012.

ADDRESSES: The application and related documents are available for review by selecting “Records Open for Public Comment” from the Features box on the Applications and Permits for Protected Species (APPS) home page, https://apps.nmfs.noaa.gov, and then selecting File No. 16160 from the list of available applications.

These documents are also available upon written request or by appointment in the following offices:

Permits and Conservation Division, Office of Protected Resources, NMFS, 1315 East-West Highway, Room 13705, Silver Spring, MD 20910; phone (301) 713-2289; fax (301) 427-2521; and Northwest Region, NMFS, 7600 Sand Point Way NE., BIN C15700, Bldg. 1, Seattle, WA 98115-0700; phone (206) 526-6150; fax (206) 526-6426.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes and Kristy Beard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

On November 3, 2011, a notice was published in the Federal Register (76 FR 68161) that a request for a permit to conduct research on marine mammals had been submitted by the above-named applicant. The Whale Museum proposes to monitor and record vessel activities around marine mammal species routinely encountered by commercial and recreational vessels in the inland waters of Washington State. This research would contribute to a long-term data set (Orca Master) that has provided critical information on characterizing annual vessel trends around Southern Resident killer whales and an evaluation of the effectiveness of federal, state and local marine wildlife guidelines and regulations through the Soundwatch program. Research methods would include close vessel approach for photo-identification, behavioral observation, and monitoring. The main focus species are killer whales (Orcinus orca) from the Southern Resident stock. Additionally, Pacific white-sided dolphins (Lagenorhynchus obliquidens), Dall's porpoise (Phocoenoides dalli), harbor porpoise (Phocoena phocoena), eastern gray whale (Eschrichtius robustus), humpback whale (Megaptera novaeangliae), non-ESA listed killer whale, and minke whale (Balaenoptera acutorostrata) may be harassed.

Under the pending permit application, The Whale Museum is requesting a change in Principal Investigator (PI) due to personnel changes within their organization. They request to have Eric Eisenhardt be designated as the new PI. No other changes to the permit application are requested.

Dated: February 27, 2012.
Tammy C. Adams,
Acting Chief, Permits and Conservation Division, Office of Protected Resources, National Marine Fisheries Service.

[FR Doc. 2012-5175 Filed 3-1-12; 8:45 am]

BILLING CODE 3510-22-P